DEPARTMENT OF TRANSPORTATION

Federal Aviation Administration

Public Notice for Waiver of Aeronautical Land-Use Assurance

AGENCY: Federal Aviation Administration, DOT.

ACTION: Notice of intent of waiver with respect to land.

SUMMARY: The Federal Aviation Administration (FAA) is considering a proposal to change a portion of the airport from aeronautical use to non-aeronautical use and to authorize the sale of certain airport property. The sale will include a perpetual navigational easement, precluding the building of any structures. The area is a 28.665-acre parcel of vacant land located east of the airport. The land was acquired via warranty deed dated November 18, 1987, recorded November 23, 1987, in Randolph County, Book No. 246, Page No. 490-491. There are no impacts to the airport by allowing the airport to sell the property. The land is not needed for aeronautical use.

Approval does not constitute a commitment by the FAA to financially assist in the disposal of the subject airport property nor a determination of eligibility for grant-in aid funding from the FAA. The disposition of the proceeds from the sale of the airport property will be in accordance with FAA's Policy and Procedures Concerning the Use of Airport Revenue, published in the Federal Register on February 16, 1999. In accordance with Section 47107(h) of Title 49, United States Code, this notice is required to be published in the Federal Register 30 days before modifying the land-use assurance that requires the property to be used for an aeronautical purpose.

DATES: Comments must be received on or before January 2, 2009.

ADDRESSES: Documents reflecting this FAA action may be reviewed at 2300 East Devon Avenue, Des Plaines, IL 60018, or at Randolph County Airport, Winchester, Indiana.

FOR FURTHER INFORMATION CONTACT: James G. Keefer, Manager, Chicago Airports District Office, Federal Aviation Administration, 2300 East Devon Avenue, Des Plaines, Illinois 60018. Telephone Number 847-294-7336/FAX Number 847-294-7046.

SUPPLEMENTARY INFORMATION: Following is a legal description of the property: A parcel of land situated in the Southwest Quarter of Section 24, Township 20 North, Range 14 East, White River Township, Randolph County, Indiana and being a part of the 40 Acre Tract as described in Randolph County Deed Records Volume 205, Page 49 and being more particularly described as follows: Beginning at a brass plug at the northwest corner of the Southwest Quarter of said Section 24, said corner being the northwest corner of the aforesaid 40 acre tract; thence North 89°26′56″ East 1304.61 feet along the half section line said line also being the approximately centerline of State Highway #32 to a P.K. Nail said P.K. nail being witnessed by an iron pin South 00°10′18″ East 30 feet; Thence South 00°10′18″ East 749.99 feet along an existing fence line to an iron pin; thence South 71°58′12″ West 1373.66 feet to a railroad spike on the west line of said Section 24; thence North 00°1′45″ West 1162.60 feet to the point of beginning containing 28.665 acres, more or less, and being subject to all legal easements and highways or record.

Issued in Des Plaines, Illinois, on November 21, 2008.
James G. Keefer,
Manager, Chicago Airports District Office.

[FR Doc. E8-28505 Filed 12-2-08; 8:45 am]

BILLING CODE 4910-13-M